DEPARTMENT OF THE INTERIOR

Bureau of Land Management

[WY-920-1320-EL]

Powder River Regional Coal Team Activities: Notice of Public Meeting

AGENCY: Bureau of Land Management, Interior.

ACTION: Notice of public meeting.

SUMMARY: The Powder River Regional Coal Team (RCT) has scheduled a public meeting for October 25, 2000, to review current and proposed activities in the Powder River Coal Region and to review pending coal lease applications (LBA).

DATES: The RCT meeting will begin at 9 a.m. M.D.T. on Wednesday, October 25, 2000. The meeting is open to the public.

ADDRESSES: The meeting will be held at the Hitching Post Inn, 1700 W. Lincolnway, Cheyenne, Wyoming 82001, 307-638-3301. Attendees are responsible for making their own reservations.

FOR FURTHER INFORMATION CONTACT: Mel Schlagel, Wyoming State Office, P.O. Box 1828, MS-922, Cheyenne, Wyoming 82003, telephone 307-775-6257.

SUPPLEMENTARY INFORMATION: The primary purpose of the meeting is to discuss pending coal lease by applications (LBA) in the Powder River Basin. Specific topics for the Powder River (RCT) to consider are:

1. North Jacobs Ranch LBA. A follow-up discussion on the North Jacobs Ranch LBA (Kennecott) is needed. This LBA was discussed at the February 1998 RCT meeting in Billings and again at the 1999 RCT meeting in Gillette. Several items such as coal and oil and gas conflicts need further followup by the RCT.

2. Belle Ayr LBA. The Belle Ayr Mine (RAG) recently requested accelerated processing for a portion of the original Belle Ayr LBA. The original LBA contained approximately 1,335.39 acres with approximately 171 million tons of Federal coal. The accelerated lease application reduced the original LBA by 243.61 acres and 29 million tons of Federal coal. The RCT needs to consider the processing schedule for the accelerated lease application and to reschedule the original Belle Ayr LBA.

3. State Section LBA. This new LBA, filed by Evergreen Enterprises, is for 8,494.13 acres with approximately 712.1 million tons of Federal coal. Approximately 4,741 acres and 519 million tons of Federal coal within this LBA overlap with the North Jacobs Ranch LBA. The RCT needs to consider the processing schedule for the State Section LBA.

4. NARO LBA. This is a new LBA filed by the Powder River Coal Company (Peabody) for the North Antelope Rochelle Mine. Approximately 4,501 acres and 564 million tons of Federal coal are involved. The Powder River Coal Company also has a small lease modification pending (WYW136142). The RCT needs to consider the processing schedule for the NARO LBA.

5. Little Thunder Creek LBA. This new LBA, filed by Ark Land Company, is for the Black Thunder Mine. Approximately 2,709.5 acres and 383.6 million tons of Federal coal are involved. The RCT needs to consider the processing schedule for the Little Thunder Creek LBA.

6. West Roundup LBA. Triton Coal Company filed this new LBA for the North Rochelle Mine. Approximately 1,869.12 acres and 173.2 million tons of Federal coal are involved. Triton Coal also has a small lease modification pending (WYW127221). The RCT needs to consider the processing schedule for the West Roundup LBA.

7. North Hay Creek Tract. Triton Coal Company filed this new LBA for the Buckskin Mine. Approximately 1,015.51 acres and 135 million tons of Federal coal are involved. The RCT needs to consider the processing schedule for the North Hay Creek Tract.

8. Any other LBAs filed before the October 25, 2000, meeting.

The RCT may generate recommendation(s) for any or all of these topics:

Any party interested in providing comments or data related to the above pending applications may either do so in writing to the State Director (925), Wyoming State Office, Bureau of Land Management, P.O. Box 1828, Cheyenne, WY 82003, no later than October 13, 2000, or by addressing the RCT with his/her concerns at the meeting on October 25, 2000.

The draft agenda for the meeting follows:

1. Introduction of RCT Members and guests.

2. Approval of the Minutes of the February 23, 1999, Regional Coal Team meeting held in Gillette, Wyoming.

3. Industry Presentations:

—Jacobs Ranch Coal Company

—Belle Ayr Coal Company

—Evergreen Enterprises

—Powder River Coal Company

—Ark Land Company

—Triton Coal Company

4. Other pending coal action updates

5. RCT Activity Planning Recommendations

—Review and recommendation(s) on pending Lease Application(s).

6. Discussion of the next meeting.

7. Adjourn.

Alan R. Pierson,
State Director.

[FR Doc. 00-23318 Filed 9-11-00; 8:45 am]

BILLING CODE 4310-22-P